DEPARTMENT OF ENERGY

Federal Energy Regulatory Commission

18 CFR Part 11

[Docket No. RM11-6-000]

Annual Update to Fee Schedule for the Use of Government Lands by Hydropower Licensees

AGENCY: Federal Energy Regulatory Commission, DOE.

ACTION: Correcting amendments.

SUMMARY: The Federal Energy Regulatory Commission published a document in the Federal Register on Tuesday, January 20, 2015 (80 FR 2591), providing the annual update to the fee schedule in Appendix A to Part 11, which lists per-acre rental fees by county (or other geographic area) for use of government lands by hydropower licensees and updating Appendix A to Part 11 with the fee schedule of per-acre rental fees by county (or other geographic area) from October 1, 2014, through September 30, 2015 (Fiscal Year 2015).

DATES: Effective April 7, 2015.

FOR FURTHER INFORMATION CONTACT: Norman Richardson, Financial Management Division, Office of the Executive Director, Federal Energy Regulatory Commission, 888 First Street NE., Washington, DC 20426, (202) 502-6219, Norman.Richardson@ferc.gov.

SUPPLEMENTARY INFORMATION: This is a summary of FERC's Errata Notice, issued on March 30, 2015.

On January 8, 2015, the Commission issued a Final Rule in the above-captioned proceeding. Annual Update to Fee Schedule for the Use of Government Lands by Hydropower License, 150 FERC ¶ 62,012 (2015). This document makes corrections to the per-acre values for the State of Alaska in the final rule published in the Federal Register on January 20, 2015 (80 FR 2591).

List of Subjects in 18 CFR Part 11

Public lands.

Accordingly, 18 CFR part 11 is corrected by making the following correcting amendments:

PART 11—ANNUAL CHARGES UNDER PART I OF THE FEDERAL POWER ACT

1. The authority citation for Part 11 continues to read as follows:

Authority: 16 U.S.C. 792-828c; 42 U.S.C. 7101-7352.

2. Amend Appendix A to Part 11 by revising the entries for Alaska to read as follows:

Appendix A to Part 11—Fee Schedule for FY 2015

State | County | Fee/Acre Yr
| * * * * *
Alaska | Aleutian Islands Area | $1.58
| Anchorage Area | 33.28
| Fairbanks Area | 19.49
| Juneau Area | 33.28
| Kenai Peninsula | 33.28
| All Areas | 9.81
| * * * * *

Issued: March 30, 2015.
Kimberly D. Bose,
Secretary.

[FR Doc. 2015-07927 Filed 4-6-15; 8:45 am]

BILLING CODE CODE 6717-01-P